DEPARTMENT OF COMMERCE

National Oceanic and Atmospheric Administration

Proposed Information Collection; Comment Request; Day 8 to 10 Forecast Focus Groups, Interviews and Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 10, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Kate Quigley, (843) 327-1114 or kate.quigley@ecs-federal.com.

SUPPLEMENTARY INFORMATION:

I. Abstract

This request is for a new collection of information.

The objective of the web-based focus groups, phone interviews, and online survey is to collect information on the current use of NOAA's National Weather Service (NWS) Weather Prediction Center (WPC) products, including probabilistic forecasts focusing on the 8 to 10 day timeframe, as well as forecast needs. The web-based focus groups and phone interviews will ask participants to explain their survey responses. This information will help create better 8 to 10 day weather forecast products used by the National Weather Service (NWS) to protect lives and property.

II. Method of Collection

The primary data collection vehicles will be internet-based surveys, web-based focus groups, and telephone interviews. Telephone interviews may be employed to supplement and verify survey responses.

III. Data

OMB Control Number: None.

Form Number(s): None.

Type of Review: Regular submission (request for a new information collection).

Affected Public: Members of the public.

Estimated Number of Respondents: 500-700 for the survey, 30 for the focus groups, and 20 for the phone interviews.

Estimated Time per Response: 30 minutes for the survey, 3-4 hours for the focus groups, and two hours for the phone interviews.

Estimated Total Annual Burden Hours: 350 hours for the survey, 120 hours for the focus groups, and 20 hours for the phone interviews.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 28, 2017.
Sarah Brabson,
NOAA PRA Clearance Officer.

[FR Doc. 2017-09518 Filed 5-10-17; 8:45 am]

BILLING CODE 3510-KE-P